DEPARTMENT OF TRANSPORTATION

Office of the Secretary

Notice of Applications for Certificates of Public Convenience and Necessity and Foreign Air Carrier Permits Filed Under Subpart B (Formerly Subpart Q) During the Week Ending December 9, 2005

The following Applications for Certificates of Public Convenience and Necessity and Foreign Air Carrier Permits were filed under Subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-23253.

Date Filed: December 5, 2005.

Due Date for Answers, Conforming Applications, or Motion to Modify Scope: December 27, 2005.

Description: Application of GoJet Airlines LLC d/b/a United Express requesting a certificate of public convenience and necessity authorizing it to engage in foreign scheduled air transportation of persons, property and mail between any point or points in the United States, its territories and possessions, or the District of Columbia, and (a) any other point or points in Canada, and (b) any other point or points in Mexico.

Docket Number: OST-2005-23307.

Date Filed: December 8, 2005.

Due Date for Answers, Conforming Applications, or Motion to Modify Scope: December 29, 2005.

Description: Application of Virgin America Inc. requesting a certificate of public convenience and necessity authorizing it to engage in scheduled interstate air transportation of persons, property and mail.

Docket Number: OST-2005-23324.

Date Filed: December 9, 2005.

Due Date for Answers, Conforming Applications, or Motion to Modify Scope: December 30, 2005.

Description: Joint Application of Capital Cargo International Airlines, Inc. (“CCIA”) and Air Transport International Limited Liability Company (“ATI”) requesting approval of the de facto transfer of certain international authority currently held by ATI.

Docket Number: OST-2005-23329.

Date Filed: December 9, 2005.

Due Date for Answers, Conforming Applications, or Motion to Modify Scope: December 30, 2005.

Description: Application of Swift Air, LLC requesting a certificate of public convenience and necessity authorizing Swift Air to engage in foreign charter air transportation of persons, property and mail.

Renee V. Wright,
Program Manager, Docket Operations, Federal Register Liaison.

[FR Doc. E5-7833 Filed 12-23-05; 8:45 am]

BILLING CODE 4910-62-P